DEPARTMENT OF ENERGY

Federal Energy Regulatory Commission

[Docket No. CP01-58-000]

Dominion Transmission, Inc.; Notice of Application

December 29, 2000.

Take notice that on December 22, 2000, Dominion Transmission, Inc. (DTI), 445 West Main Street, Clarksburg, West Virginia 26301, tendered for filing in Docket No. CP01-58-000, an abbreviated application for a blanket certificate pursuant to section 7 of the Natural Gas Act, as amended, and the Commission's Rules and Regulations thereunder, authorizing the utilization of coiled tubing drilling technology on existing storage wells for the purpose of improving deliverability and reservoir performance in certain storage reservoirs where DTI has not achieved its certificated deliverability. DTI claims that the drilling procedure will take place within the existing footprint of the storage wells. The blanket authorization would apply to the Bridgeport Field in Harrison County, West Virginia; the South Bend Field in Armstrong County, Pennsylvania; the Fink-Kennedy-Lost Creek Field in Lewis County, Pennsylvania; the Oakford Fifth Sand in Westmoreland County, Pennsylvania and the Oakford Murrysville in Westmoreland County, Pennsylvania, all as more fully set forth in the application which is on file with the Commission and open to public inspection. This filing may be viewed on the web at http://www.ferc.fed.us./online/rims.htm (call (202) 208-2222 for assistance).

According to DTI, it will use coiled tubing drilling technology to sidetrack existing storage wells with short (300′ to 500′) horizontal laterals to improve the deliverability and reservoir performance in certain storage reservoirs where other more conventional enhancement strategies are not effective or do not apply. DTI states that many of the wells in the candidate fields for the new technology have been historically poor performers and are located in less than optimum locations in the reservoir. By drilling horizontal laterals from the existing wellbores, DTI would be able to take advantage of pre-existing gathering line infrastructure, access roads, and well locations; reducing costs as well as eliminating any new environmental disturbances. DTI estimates the cost of the technology to be $575,000 per well to implement. DTI states that the drilling time of 5 to 7 days would make very temporary presence of equipment/environmental intrusion. DTI claims that the use of this technology will not result in the expansion of the active or protective portions of the storage reservoir.

Questions regarding the details of this application should be directed to Sean Sleigh, Certificates Manager, Dominion Transmission, Inc.; 445 West Main Street, Clarksburg, WV 26301, call (304)-627-3462, or fax (304)-627-3305.

There are two ways to become involved in the Commission's review of this project. First, any person wishing to obtain legal status by becoming a party to the proceedings for this project should, on or before January 19, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the Internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-300 Filed 1-4-01; 8:45 am]

BILLING CODE 6717-01-M